NUCLEAR REGULATORY COMMISSION

10 CFR Part 72

RIN 3150-AH77

List of Approved Fuel Storage Casks: Standardized NUHOMS® -32PT, -24PHB, and -24PTH Revision 8, Confirmation of Effective Date

AGENCY: Nuclear Regulatory Commission.

ACTION: Direct final rule: Confirmation of effective date.

SUMMARY: The Nuclear Regulatory Commission (NRC) is confirming the effective date of December 5, 2005, for the direct final rule that was published in the Federal Register on September 20, 2005 (70 FR 55023). This direct final rule amended the NRC's regulations to revise the Transnuclear, Inc., Standardized NUHOMS® System listing to include Amendment No. 8 to Certificate of Compliance (CoC) No. 1004.

DATES: The effective date of December 5, 2005, is confirmed for this direct final rule.

ADDRESSES: Documents related to this rulemaking, including comments received, may be examined at the NRC Public Document Room, located at One White Flint North, 11555 Rockville Pike, Rockville, MD 20852. These same documents may also be viewed and downloaded electronically via the rulemaking Web site (http://www.ruleforum.llnl.gov). For information about the interactive rulemaking Web site, contact Ms. Carol Gallagher (301) 415-5905; e-mail CAG@nrc.gov.

FOR FURTHER INFORMATION CONTACT: Jayne M. McCausland, Office of Nuclear Material Safety and Safeguards, U.S. Nuclear Regulatory Commission, Washington, DC 20555, telephone (301) 415-6219, e-mail jmm2@nrc.gov.

SUPPLEMENTARY INFORMATION: On September 20, 2005 (70 FR 55023), the NRC published a direct final rule amending its regulations in 10 CFR part 72 to revise the Standardized NUHOMS® System listing within the “List of Approved Spent Fuel Storage Casks” to include Amendment No. 8 to CoC No. 1004. This amendment adds a new spent fuel storage and transfer system, designated the NUHOMS® -24PTH System, and modifies the NUHOMS® -32PT and -24PHB dry shielded canister designs. In the direct final rule, NRC stated that if no significant adverse comments were received, the direct final rule would become final on December 5, 2005. The NRC did not receive any comments that warranted withdrawal of the direct final rule. Therefore, this rule will become effective as scheduled.

Dated at Rockville, Maryland, this 22nd day of November, 2005.
For the Nuclear Regulatory Commission.
Michael T. Lesar,
Chief, Rules and Directives Branch, Division of Administrative Services, Office of Administration.

[FR Doc. 05-23393 Filed 11-28-05; 8:45 am]

BILLING CODE 7590-01-P